DEPARTMENT OF COMMERCE

International Trade Administration

[A-533-824]

Polyethylene Terephthalate Film, Sheet, and Strip From India: Final Results of Antidumping Duty Administrative Review; 2018-2019

AGENCY: Enforcement and Compliance, International Trade Administration, Department of Commerce.

SUMMARY: On November 23, 2020, the Department of Commerce (Commerce) published the preliminary results of the administrative review of the antidumping duty (AD) order on polyethylene terephthalate film, sheet, and strip (PET film) from India. The period of review is July 1, 2018, through June 30, 2019. We continue to find that Jindal Poly Films Ltd. (India)(Jindal) did not make sales at less than normal value.

DATES: Applicable March 23, 2021.

FOR FURTHER INFORMATION CONTACT: Jacqueline Arrowsmith, AD/CVD Operations, Office VII, Enforcement and Compliance, International Trade Administration, U.S. Department of Commerce, 1401 Constitution Avenue NW, Washington, DC 20230; telephone: (202) 482-5255.

Background

On November 23, 2020, Commerce published the Preliminary Results for this administrative review.¹ In the Preliminary Results, we invited interested parties to comment within 30 days.² No interested party submitted comments or requested a hearing in this administrative review. The current deadline for these final results is March 23, 2021. Commerce conducted this administrative review in accordance with section 751(a)(1)(B) of the Tariff Act of 1930, as amended (the Act).

¹ See Polyethylene Terephthalate Film, Sheet, and Strip from India: Preliminary Results of Antidumping Duty Administrative Review and Partial Rescission of Antidumping Duty Administrative Review; 2018-2019, 85 FR 74690 (November 23, 2020) (Preliminary Results), and accompanying memorandum, “Decision Memorandum for Preliminary Results of Antidumping Duty Administrative Review and Partial Rescission of Antidumping Duty Administrative Review Polyethylene Terephthalate Film, Sheet, and Strip from India; 2018-2019,” dated November 17, 2020 (Preliminary Decision Memorandum).

² See Preliminary Results.

Scope of the Order

The products covered by the AD order are all gauges of raw, pretreated, or primed PET film, whether extruded or coextruded. Excluded are metalized films and other finished films that have had at least one of their surfaces modified by the application of a performance-enhancing resinous or inorganic layer of more than 0.00001 inches thick. Imports of polyethylene terephthalate film, sheet, and strip are currently classifiable in the Harmonized Tariff Schedule of the United States (HTSUS) under item number 3920.62.00.90. HTSUS subheadings are provided for convenience and customs purposes. The written description of the scope of the AD order is dispositive.

Final Results of Review

As noted above, Commerce received no comments concerning the Preliminary Results. As there are no changes from, or comments upon, the Preliminary Results, Commerce finds that there is no reason to modify its analysis and calculations. Accordingly, we adopt the analysis and explanation in our Preliminary Results for the purposes of these final results and we have not prepared an Issues and Decision Memorandum to accompany this Federal Register notice. The final weighted-average dumping margin for the period July 1, 2018, through June 30, 2019, for Jindal is 0.00 percent.

Assessment Rates

Commerce has determined, and CBP shall assess, antidumping duties on all appropriate entries in this review, in accordance with section 751(a)(2)(C) of the Act and 19 CFR 351.212(b)(1). Commerce intends to issue assessment instructions directly to CBP no earlier than 35 days after publication of the final results of this review in the Federal Register. If a timely summons is filed at the U.S. Court of International Trade, the assessment instructions will direct CBP not to liquidate relevant entries until the time for parties to file a request for statutory injunction has expired (i.e., within 90 days of publication). Because we calculated a zero margin in the final results of this review for Jindal, in accordance with 19 CFR 351.212 we will instruct CBP to liquidate the appropriate entries without regard to dumping duties.³

³ See 19 CFR 351.106(c)(2).

Cash Deposit Requirements

The following cash deposit requirements will be effective upon publication of the final results of this administrative review for all shipments of the subject merchandise entered, or withdrawn from warehouse, for consumption on or after the publication date, as provided for by section 751(a)(2)(C) of the Act: (1) The cash deposit rate for Jindal will be zero, the rate established in the final results of this review; (2) for previously reviewed or investigated companies not covered in this review, the cash deposit rate will continue to be the company-specific rate published for the most recent period in which that company participated; (3) if the exporter is not a firm covered in this or any previous review or in the original less-than-fair-value (LTFV) investigation, but the manufacturer is, the cash-deposit rate will be the rate established for the manufacturer of the merchandise in these final results of review or in the final results for the most recent period in which that manufacturer participated; and (4) if neither the exporter nor the manufacturer is a firm covered in this or any previous review or the investigation, the cash-deposit rate will continue to be the all-others rate of 5.71 percent, which is the all-others rate established by Commerce in the LTFV investigation.⁴ These cash deposit requirements, when imposed, shall remain in effect until further notice.

⁴ See Notice of Amended Final Determination of Sales at Less Than Fair Value and Antidumping Duty Order: Polyethylene Terephthalate Film, Sheet, and Strip from India, 67 FR 44175 (July 1, 2002); see also Final Determination of Sales at Less Than Fair Value: Polyethylene Terephthalate Film, Sheet, and Strip (PET Film) from India, 67 FR 34899 (May 16, 2002).

Disclosure

Normally, Commerce discloses to interested parties the calculations performed in connection with the final results within five days of the date of publication of the notice of final results in the Federal Register, in accordance with 19 CFR 351.224(b). However, there are no calculations to disclose here because Commerce made no changes to the analysis or calculations in the Preliminary Results.⁵

⁵ For disclosure of calculations made in the Preliminary Results, see Memorandum “Analysis Memorandum for the Preliminary Results of the Antidumping Duty Administrative Review of Polyethylene Terephthalate Film, Sheet, and Strip from India: Jindal Poly Films Ltd. (India),” dated November 17, 2020.

Reimbursement of Duties

This notice also serves as a final reminder to importers of their responsibility under 19 CFR 351.402(f)(2) to file a certificate regarding the reimbursement of antidumping and/or countervailing duties prior to liquidation of the relevant entries during this review period. Failure to comply with this requirement could result in the Secretary's presumption that reimbursement of antidumping and/or countervailing duties occurred and the subsequent assessment of double antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation, which is subject to sanction.

Notification to Interested Parties

We are issuing and publishing this notice in accordance with sections 751(a)(1) and 777(i)(1) of the Act and 19 CFR 351.213(h).

Dated: March 16, 2021.
Christian Marsh,
Acting Assistant Secretary for Enforcement and Compliance.

[FR Doc. 2021-05961 Filed 3-22-21; 8:45 am]

BILLING CODE 3510-DS-P